DEPARTMENT OF COMMERCE

National Oceanic and Atmospheric Administration

RIN 0648—XB009

Western Pacific Pelagic Fisheries; American Samoa Longline Limited Entry Program

AGENCY: National Marine Fisheries Service (NMFS), National Oceanic and Atmospheric Administration (NOAA), Commerce.

ACTION: Notice; availability of permits.

SUMMARY: NMFS announces the availability of at least six permits for the American Samoa pelagic longline fishery.

DATES: NMFS must receive completed permit applications by June 22, 2012.

ADDRESSES: Request a blank application form from NMFS Pacific Islands Region (PIR), 1601 Kapiolani Blvd. Suite 1110, Honolulu, HI 96814-4733, or the PIR Web site www.fpir.noaa.gov. Mail your completed application and payment to NMFS PIR, ATTN: ASLE Permits, 1601 Kapiolani Blvd. Suite 1110, Honolulu, HI 96814-4733.

FOR FURTHER INFORMATION CONTACT: Walter Ikehara, Sustainable Fisheries, NMFS PIR, tel 808-944-2275, fax 808-973-2940, or email PIRO-permits@noaa.gov.

SUPPLEMENTARY INFORMATION: NMFS may issue new permits for the American Samoa pelagic longline limited entry program if the number of permits in a vessel size class falls below the maximum allowed. Six permits are available, as follows:

• Four in Class A (vessels less than or equal to 40 ft in overall length); and

• Two in Class D (over 70 ft in overall length).

The number of available permits may increase before the application period closes.

NMFS will assign the highest priority to the applicant (for any vessel size class) with the earliest documented participation in the fishery on a Class A vessel. Applicants with earliest documented participation in Classes B, C, and D, in that order, will get lower priority. If there is a tie in priority, the person with the documented earliest following participation will receive higher priority.

NMFS (see ADDRESSES) will not accept applications received after June 22, 2012. You must provide a completed and signed application form, legible copies of documents supporting historical participation in the American Samoa pelagic longline fishery, and payment (non-refundable) for the application-processing fee.

You may find the regulations governing the American Samoa pelagic longline limited entry program at Title 50 of the Code of Federal Regulations, Part 665.

Authority: 16 U.S.C. 1801 et seq.

Dated: February 17, 2012.
Carrie Selberg,
Acting Director, Office of Sustainable Fisheries, National Marine Fisheries Service.

[FR Doc. 2012-4251 Filed 2-22-12; 8:45 am]

BILLING CODE 3510-22-P